COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds products to the Procurement List that will be furnished by nonprofit agencies employing persons who are blind or have other severe disabilities, and deletes products from the Procurement List previously furnished by such agencies.

DATES: Effective Date: 12/22/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 9/26/2014 (79 FR 57890-57891) and 10/10/2014 (79 FR 61296), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 8520-00-NIB-0149—Refill, Instant Hand Sanitizer, Foam, Advanced Green Certified, 1200 ml

NSN: 8520-00-NIB-0150—Refill, Instant Hand Sanitizer, Foam, Skin Nourishing, Advanced Green Certified, 1200 ml

NSN: 8520-00-NIB-0151—Refill, Hand Soap, Foam, Anti-Bacterial, Plum Fragrance, Purple, Advanced Green Certified, 1250 ml

NSN: 8520-00-NIB-0152—Refill, Hand Soap/Shower Wash, Foam, Ginger Fragrance, Green, Advanced Green Certified 1250 ml

NPA: Travis Association for the Blind, Austin, TX

Contracting Activity: General Services Administration, Fort Worth, TX

Coverage: B-List for the Broad Government Requirement as aggregated by the General Services Administration, Fort Worth, TX.

NSN: MR 1082—Broom, Large, Angle

NSN: MR 1081—Brush, Toilet Bowl

NSN: MR 1071—Brush, Kitchen

NSN: MR 1070—Brush, Power Scrub

NSN: MR 1074—Broom, Corn

NPA: Alphapointe, Kansas City, MO

Contracting Activity: NEXCOM-Navy Exchange Service Command, Virginia Beach, VA

Coverage: C-List for the requirements of Navy Exchanges as aggregated by the Navy Exchange Service Command (NEXCOM), Virginia Beach, VA.

NSN: MR 10669—Kit, Party, New Year's

NPA: Winston-Salem Industries for the Blind, Inc., Winston-Salem, NC

Contracting Activity: Defense Commissary Agency, Fort Lee, VA

Coverage: C-List for the requirements of military commissaries and exchanges as aggregated by the Defense Commissary Agency, Fort Lee, VA.

Deletions

On 10/17/2014 (79 FR 62417), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Clamp, Loop

NSN: 5340-00-410-6441—Cushion Type AMS3839

NSN: 5340-00-411-2953—Cushion Type AMS3839

NPA: Provail, Seattle, WA

Contracting Activity: Defense Logistics Agency Troop Support, Philadelphia, PA

Barry S. Lineback,
Director, Business Operations.

[FR Doc. 2014-27591 Filed 11-20-14; 8:45 am]

BILLING CODE 6353-01-P